DEPARTMENT OF DEFENSE

Department of the Army

Availability for Non-Exclusive, Exclusive, or Partially Exclusive Licensing of U.S. Patent Concerning a Method and Device for the Detection and Track of Targets in High Clutter

AGENCY: Department of the Army, DoD.

ACTION: Notice.

SUMMARY: In accordance with 37 CFR 404.6 and 404.7, announcement is made of the availability for licensing of the invention set forth in U.S. Patent No. 7,154,433 entitled “Method and Device for the Detection and Track of Targets in High Clutter,” issued on December 26, 2006. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil (256) 955-3213 or Ms. Susan D. McRae, Office of Research and Technology Applications, e-mail: susan.mcrae@smdc.army.mil; (256) 955-1501.

SUPPLEMENTARY INFORMATION: The invention pertains to Doppler radar systems for tracking targets in high clutter. A processor mitigates a clutter cloud in a reflected radar signal, the clutter cloud having a velocity growth rate. The processor includes an input for receiving a reflected radar signal, a delay line having a plurality of moving target indicator (MTI) Doppler filters, and an output connected in circuit with the plurality of MTI Doppler filters. The delay line covers a Doppler frequency range corresponding to the velocity growth rate of the clutter cloud. The reflected radar signal passes through the delay line to mitigate a portion of the reflected radar signal that is reflected by the clutter cloud from the reflected radar signal.

Brenda S. Bowen,
Army Federal Register Liaison Officer.

[FR Doc. 07-1277 Filed 3-15-07; 8:45 am]

BILLING CODE 3710-08-M